Title 3—

The President

Proclamation 7297 of April 28, 2000

National Charter Schools Week, 2000

By the President of the United States of America

A Proclamation

Providing our children the high-quality education they need to succeed is one of the greatest challenges we face as a Nation, and helping communities establish public charter schools is one of the best ways we can meet that challenge.

Charter schools—public schools that are started by parents, educators, and communities working in partnership—are open to students of every background and ability. They also afford greater autonomy and flexibility in staffing decisions, curriculum design, and other areas than traditional public schools do. In return for this flexibility, charter schools must set and meet the highest standards, and they can remain open only as long as they do so.

These schools are helping us to meet many of our Nation's most important education goals. They are driving change in public schools across America by showing the benefits of greater parent participation, longer school years, higher academic standards, and character education. Charter schools offer reform, innovation, and increased choice in public education, and, by doing so, they spur improvement throughout our public school system.

I am proud that my Administration has taken a leadership role in promoting and funding public charter schools. When I took office almost 8 years ago, there was only one charter school in our Nation. By September of last year, that number had grown to more than 1,600 in 30 States and the District of Columbia, with more than 250,000 students enrolled and many more on waiting lists. Since 1994, the Federal Government has invested almost $400 million in public charter schools. Last August, I announced the release of almost $100 million in Department of Education grants to develop, open, or expand charter schools across the country. And my proposed budget for fiscal year 2001 includes $175 million for the Department of Education's Public Charter Schools Program. These grants and funds will help cover the costs of opening new schools and help existing charter schools hire more well-trained teachers, buy more books, computers, and educational software, and ensure that classrooms are safe and accessible for all students. Finally, these funds will aid charter schools as they develop accountability systems to measure whether they are meeting or exceeding State standards.

During National Charter Schools Week, I commend the many dedicated parents, educators, students, and other concerned citizens who, working together, have started charter schools in their communities to meet the growing demand for excellence, creativity, and choice in education. Because of their vision and leadership, charter schools across our Nation are helping to raise standards, expectations, and accountability in all of America's public schools. By investing in charter schools, we are investing in our Nation's future.

NOW, THEREFORE, I, WILLIAM J. CLINTON, President of the United States of America, by virtue of the authority vested in me by the Constitution and laws of the United States, do hereby proclaim May 1 through May 5, 2000, as National Charter Schools Week. I encourage the American people to mark this observance with appropriate programs and activities that raise awareness of the many contributions that public charter schools make to the education of our children and the success of our Nation.

IN WITNESS WHEREOF, I have hereunto set my hand this twenty-eighth day of April, in the year of our Lord two thousand, and of the Independence of the United States of America the two hundred and twenty-fourth.

wj

[FR Doc. 00-11139

Filed 5-2-00; 8:45 am]

Billing code 3195-01-P